DEPARTMENT OF COMMERCE

National Institute of Standards and Technology

Notice of Public Meeting of the National Conference on Weights and Measures

AGENCY: National Institute of Standards and Technology, Commerce.

ACTION: Notification of the 92nd Annual Meeting of the National Conference on Weights and Measures, July 2007.

SUMMARY: The Annual Meeting of the 92nd National Conference on Weights and Measures (NCWM) will be held July 8 to 12, 2007, in Snowbird, Utah. The meetings are open to the public, but registration with the NCWM is required. The NCWM is an organization of state, county, and city weights and measures officials and includes representatives of business, federal agencies, and members of the private sector which come together to develop standards related to weights and measures technology, administration, and enforcement. Pursuant to (15 U.S.C. 272(b)(6)), the Weights and Measures Division of the National Institute of Standards and Technology (NIST) supports the NCWM as one of the forums it uses to solicit comments and recommendations on revising or updating a variety of publications related to legal metrology. NIST promotes uniformity among the states in laws, regulations, methods, and testing equipment that comprise the regulatory control of commercial weighing and measuring devices and other practices used in trade and commerce. Publication of this notice on the NCWM's behalf is undertaken as a public service; NIST does not endorse, approve, or recommend any of the proposals contained in this notice or in the publications of the NCWM mentioned below. Please see NCWM Publication 16 which contains meeting agendas and schedules, registration forms and hotel information at http://www.ncwm.net.

DATES: July 8-12, 2007.

ADDRESSES: The Snowbird Resort, Highway 210, Little Cottonwood Canyon, Snowbird, Utah 84092.

SUPPLEMENTARY INFORMATION: The following are brief descriptions of some of the items that will be considered at the meeting. All items are voting items unless specified otherwise. Comments will be taken on these and other issues during public hearings on July 8 and 9, 2007. At this stage, the items are proposals that will be considered for adoption at this meeting. The agenda also includes committee work sessions that will take place after the hearings during which the Committees will finalize the proposals for NCWM consideration at its voting sessions on July 11 and 12, 2007. The Committees may also withdraw or carryover items that need additional development.

The Specifications and Tolerances Committee will consider proposed amendments to NIST Handbook 44, “Specifications, Tolerances, and other Technical Requirements for Weighing and Measuring Devices (NIST Handbook 44).” Those items address weighing and measuring devices used in commercial measurement applications, that is, devices that are normally used to buy from or sell to the general public or used for determining the quantity of product sold among businesses. Issues on the agenda of the NCWM Laws and Regulations Committee relate to proposals to amend NIST Handbook 130, “Uniform Laws and Regulations in the area of legal metrology, and engine fuel quality,” which cover the method of sale of commodities regulations and engine fuel labeling. This notice contains information about significant items on the NCWM Committee agendas so many issues are not presented in this notice. As a result, the following items are not consecutively numbered.

NCWM Specifications and Tolerances Committee

The following items are proposals to amend NIST Handbook 44:

General Code

Item 310-1. G.S.2. Facilitation of Fraud. The proposal modifies the section to clarify that the prohibition against facilitating fraud applies to the electronically programmed and coded components of weighing and measuring devices to reduce electronic manipulation or alteration. Examples of fraud issues in the past few years have involved: (1) Users altering, manipulating, or interfering with software interfaced or installed in equipment; (2) microprocessor issues (e.g., users hiding extra electronic pulsers in gas pumps and taximeters); and (3) users developing software programs that permit the manipulation of motor truck scale data used to generate weighmaster certificates. The Committee is proposing to update the requirement by adding terms to address electronic and software-based technology that may be fraudulently used today.

Item 310-3. Multiple Weighing or Measuring Elements that Share a Common Provision for Sealing. This proposal would require new commercial weighing and measuring devices with multiple weighing or measuring elements to be equipped with one of several means to indicate when changes are made to individual elements that affect metrological parameters.

Scales Code

Item 320-6. Shift Tests (Off-Center Load Tests) for Bench or Counter and Other Scales. This proposal is intended to clarify the appropriate shift test pattern and test loads for scales currently designated as bench/counter scales and other platform-type scales. Currently, bench and counter scale shift tests are conducted with a one-half capacity test load centered successively at four points equidistant between the center and the front, left, back, and right edges of the load-receiving element. Shift tests for other platform scales are conducted with a one-half capacity test load centered, as nearly as possible, successively at the center of each quadrant. The proposal eliminates references to bench and counter scales and prescribes that the shift test load and test pattern used for those and other scales (except for livestock scales) be based on the scale's nominal capacity. For livestock scales the proposal clarifies, but does not change, the existing shift test requirements.

Item 320-7. Dynamic Monorail Systems. This proposal clarifies that the device should be tested while in normal use and that the two extra carcasses referenced in the current language are only for replacement purposes (e.g., in cases where carcass weight loss occurs as a result of influences other than from the device being tested) and are not intended to replace erroneous device readings found testing. The proposal also includes a requirement that certified weights be used for a static test of the reference scale.

Liquid-Measuring Device Code

Item 330-2. Display of Quantity and Total Price in Aviation Refueling Applications. This is a proposal to revise requirements related to the display of delivered quantity and total price for liquid measuring devices (typically those used at small or midsized airports) to fuel small aircraft.

Item 330-4. Temperature Compensation. This is an information item that is presented to solicit comments to the Committee regarding proposals to include requirements in Handbook 44 to permit liquid measuring devices to be equipped with the automatic means to allow them to deliver products on the basis of temperature compensated volume. (See also Item 232-1 below under the Laws and Regulations Committee.)

Vehicle Tank Meter Code

Item 331-1. Temperature Compensation. This is a proposal to add requirements to Handbook 44 to allow vehicle-mounted measuring devices to be equipped with the automatic means to allow them to deliver products on the basis of temperature compensated volume. (See also Item 232-1 below under the Laws and Regulations Committee.)

NCWM Laws and Regulations Committee

The following voting items are proposals to amend the Method of Sale of Commodities Regulation in NIST Handbook 130:

Item 232-1. Temperature Compensation for Refined Petroleum Products and Other Fuels. The proposal allows sellers the option of offering engine fuels for sale on the basis of automatic temperature compensation at all levels of distribution. Compensation is permitted in many states at the wholesale and other levels and is required in many states for some meters used to deliver Liquefied Petroleum Gas. This proposal defines the reference temperature for sales by the liter or gallon (or fractions thereof), and allows the state weights and measures directors to grant exceptions to the requirements for some devices. One provision requires full-disclosure of the method of sale on dispensers and street signs to ensure value comparison and fair competition among sellers.

Item 232-2. Fuel Ethanol Labeling. This item requires the identification and labeling of ethanol blends on engine fuel dispensers at retail service stations.

FOR FURTHER INFORMATION CONTACT: Carol Hockert, Chief, NIST, Weights and Measures Division, 100 Bureau Drive, Stop 2600, Gaithersburg, MD 20899-2600, telephone (301) 975-5507, or at Carol.Hockert@nist.gov.

Dated: June 19, 2007.
James Turner,
Deputy Director.

[FR Doc. E7-12333 Filed 6-25-07; 8:45 am]

BILLING CODE 3510-13-P